DEPARTMENT OF THE INTERIOR

National Park Service

[N6815; NPS-WASO-NAGPRA-NPS0041635; PPWOCRADN0-PCU00RP14.R50000]

Notice of Inventory Completion: Princeton University, Princeton, NJ

AGENCY: National Park Service, Interior.

ACTION: Notice.

SUMMARY: In accordance with the Native American Graves Protection and Repatriation Act (NAGPRA), Princeton University has completed an inventory of human remains and has determined that there is a cultural affiliation between the human remains and Indian Tribes or Native Hawaiian organizations in this notice.

DATES: Repatriation of the human remains in this notice may occur on or after January 20, 2026.

ADDRESSES: Send written requests for repatriation of the human remains in this notice to Lauren Jakobsson, Princeton University Art Museum, Princeton University, Princeton, NJ 08544, email HROBPrinceton@princeton.edu.

SUPPLEMENTARY INFORMATION: This notice is published as part of the National Park Service's administrative responsibilities under NAGPRA. The determinations in this notice are the sole responsibility of Princeton University, and additional information on the determinations in this notice, including the results of consultation, can be found in its inventory or related records. The National Park Service is not responsible for the determinations in this notice.

Abstract of Information Available

Human remains representing, at least, three individuals have been identified. No associated funerary objects are present. The human remains were removed from Sequim Bay, in Clallam County, Washington, by William Allen Butler Jr on August 11, 1876 while on a cruise in the Puget Sound with other Princeton Alumni. On December 10, 1876, one of the individuals was donated to the now-defunct Princeton Museum of Natural History. On an unknown date in the late 1800s or early 1900s, the other two individuals were transferred to the museum. The three individuals became part of the museum's vertebrate paleontology teaching collection. Princeton University has no knowledge or record of the presence of any potentially hazardous substances used to treat the human remains.

Cultural Affiliation

Based on the information available and the results of consultation, cultural affiliation is clearly identified by the information available about the human remains described in this notice.

Determinations

Princeton University has determined that:

• The human remains described in this notice represent the physical remains of three individuals of Native American ancestry.

• There is a connection between the human remains described in this notice and the Jamestown S'Klallam Tribe; Lower Elwha Tribal Community; and the Port Gamble S'Klallam Tribe.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after January 20, 2026. If competing requests for repatriation are received, Princeton University must determine the most appropriate requestor prior to repatriation. Requests for joint repatriation of the human remains are considered a single request and not competing requests. Princeton University is responsible for sending a copy of this notice to the Indian Tribes and Native Hawaiian organizations identified in this notice and any other consulting parties.

Authority: Native American Graves Protection and Repatriation Act, 25 U.S.C. 3003, and the implementing regulations, 43 CFR 10.10.

Dated: December 11, 2025.
Melanie O'Brien,
Manager, National NAGPRA Program.

[FR Doc. 2025-23381 Filed 12-18-25; 8:45 am]

BILLING CODE 4312-52-P